DEPARTMENT OF HEALTH AND HUMAN SERVICES

Administration for Children and Families

Proposed Information Collection Activity; Comment Request

Proposed Projects

Title: Schedule UDC: “Itemized Undistributed Collections”.

OMB No.: New Collection.

Description: Although state child support enforcement agencies successfully collect and distribute billions of dollars every fiscal year, a certain portion of the collections remain undistributed. State agencies have requested a methodology by which to differentiate and report to the Office of Child Support Enforcement (OCSE) on the nature of those collections. In some instances collections remain undistributed for a short time, pending the anticipated resolution of an assortment of administrative or legal processes, while in other instances collections remain undistributed for an indefinite time as a result of circumstances beyond the control of the state agency. This support schedule, which will be submitted quarterly as an attachment to Form OCSE-34A, the “Quarterly Report of Collections,” will enable each state to differentiate and itemize its undistributed collections by category and age.

Respondents: State IV-D agencies administering the Child Support Enforcement Program under Title IV-D of the Social Security Act.

Annual Burden Estimates
Instrument | Number of respondents | Number of responses per respondent | Average burden hours per response | Total burden hours
Schedule UDC | 54 | 4 | 4 | 864
Estimated Total Annual Burden Hours | 864

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: rsargis@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: October 1, 2003.
Robert Sargis,
Reports Clearance Officer.

[FR Doc. 03-25438 Filed 10-7-03; 8:45 am]

BILLING CODE 4184-01-M